DEPARTMENT OF TRANSPORTATION

Federal Aviation Administration

Aviation Rulemaking Advisory Committee; Airport Certification Issues Meeting

AGENCY: Federal Aviation Administrative (FAA), DOT.

ACTION: Notice of public meeting.

SUMMARY: This notice announces a public meeeting of the Federal Aviation Administration's Aviation Rulemaking Advisory Committee to discuss Airport Certification issues.

DATES: The meeting will be held on April 8, 2002, from 1:00 p.m. to 4:00 p.m. Arrange presentations by April 1, 2002.

ADDRESSES: The meeting will be held at the Federal Aviation Administration, 800 Independence Ave. SW, Room 600 East, Washington, DC 20591.

FOR FURTHER INFORMATION CONTACT: Marisa Mullen, FAA, Office of Rulemaking (ARM-205), 800 Independence Avenue, SW, Washington, DC 20591. Telephone, (202) 267-7653, fax (202) 267-5075.

SUPPLEMENTARY INFORMATION: Pursuant to § 10(a)(2) of the Federal Advisory Committee Act (Public Law 92-463; 5 U.S.C. App II), notice is hereby given of a meeting of the Aviation Rulemaking Advisory Committee to be held on April 8, 2002, from 1:00 p.m. to 4:00 p.m. at the Federal Aviation Administration, 800 Independence Ave. SW, Room 600 East, Washington, DC 20591. The agenda will include:

1. Opening Remarks.

2. Committee Administration.

3. Rescue and Firefighting Requirements Working Group Report.

4. Future Meetings.

Attendance is open to the interested public but will limited to the space available. The FAA will arrange teleconference capability for individuals wishing to participate by teleconference if we receive notification before April 1, 2002. Arrangements to participate by teleconference can be made by contacting the person listed in the FOR FURTHER INFORMATION CONTACT section. Callers outside the Washington metropolitian area will be responsible for paying long distance charges.

The public must make arrangements by April 1, 2002, to present oral statements at the meeting. The public may present written statements to the committee at any time by providing 25 copies to the Assistant Executive Director, or by bringing the copies to the meeting. Public statements will only be considered if time permits. In addition, sign and oral interpretation, as well as an assistive listening device, can be made available, if requested 10 calendar days before the meeting. Arrangements may be made by contacting the person listed under the heading FOR FURTHER INFORMATION CONTACT.

Issued in Washington, DC, on March 19, 2002.
Ben Castellano,
Assistant Executive Director for Airport Certification Issues, Aviation Rulemaking Advisory Committee.

[FR Doc. 02-7506 Filed 3-27-02; 8:45 am]

BILLING CODE 4910-13-M